DEPARTMENT OF COMMERCE

National Oceanic and Atmospheric Administration

[Docket No. 000927276-0276-01; I.D. No. 101000CH]

RIN 0648-ZA94

Coastal Services Center Broad Area Announcement

AGENCY: National Ocean Service (NOS), National Oceanic and Atmospheric Administration (NOAA), Commerce.

ACTION: Notice of availability of Federal assistance.

SUMMARY: The NOAA Coastal Services Center announces the availability of Federal assistance for Fiscal Year (FY) 2001 in the following areas: Landscape Characterization and Restoration, Integration and Development, and Special Projects. This announcement provides guidelines for these program areas and includes details for the technical program, evaluation criteria, and selection procedures of each program. Selected recipients will enter into either a cooperative agreement with the Center or receive a grant depending upon the amount of the Center’s involvement in the project-- substantial involvement means a cooperative agreement, while independent work requires a grant.

DATES: Each program area has specific dates for application and proposal deadlines. Refer directly to that program area description under SUPPLEMENTARY INFORMATION. Applicants are required to prepare separate packages for each proposal submitted.

ADDRESSES: Send all proposals to: NOAA Coastal Services Center, 2234 South Hobson Avenue, Charleston, SC 29405-2413. Landscape Characterization and Restoration proposals should be sent to the attention of Pace Wilber. Integration and Development proposals should be sent to the attention of Cindy Fowler. Special Project proposals should be sent to the attention of Jan Kucklick. Upon receipt of proposals, the Center’s Program Managers must ensure proposals are time stamped.

FOR FURTHER INFORMATION CONTACT: Administrative questions should be directed to Violet Legette, (843)-740-1222 or Violet. Legette@noaa.gov. Technical point of contact for Landscape Characterization and Restoration is Pace Wilber, (843)-740-1235 or Pace.Wilber@noaa.gov. Technical point of contact for Integration and Development is Cindy Fowler,(843)-740-1249 or Cindy.Fowler@noaa.gov. Technical point of contact for Special Projects, Special Projectsf or the Pacific Islands, and Technical Assistantship for the Pacific Islands is Jan Kucklick, (843)-740-1279 or Janet.Kucklick@noaa.gov.

SUPPLEMENTARY INFORMATION:

Authority

Statutory authority for these programs is provided under 16 U.S.C. 1456c (Technical Assistance); 15 U.S.C. 1540 (Cooperative Agreements); 33 U.S.C. 1442 (research program respecting possible long-range effects of pollution, over fishing, and man-induced changes of ocean ecosystems); 33 U.S.C. 883a (surveys and other activities); 33 U.S.C. 883b (dissemination of data); 33 U.S.C. 883c (geomagnetic data collection, correlation, and dissemination); and 33 U.S.C. 883d (improvement of methods, instruments, and equipments; investigations and research).

Compliance

The recipients must comply with Executive Order 12906 regarding any and all geospatial data collected or produced under grants or cooperative agreements. This includes documenting all geospatial data in accordance with the Federal Geographic Data Committee Content Standard for digital geospatial data.

Electronic Access

All applicants are required to submit a NOAA grants application package and project proposal. The standard NOAA grants application package (which includes forms SF-424, SF-424A, SF-424B, SF-424C, SF-424D, CD-511, CD-512, and SF-LLL) can be obtained from the NOAA grants Website at http://www.rdc.noaa.gov/grants/pdf/. Funding will be subject to the availability of Federal appropriations.

Minority Serving Institutions

Pursuant to Executive Orders 12876, 12900, and 13021, the Department of Commerce, National Oceanic and Atmospheric Administration (DOC/NOAA) is strongly committed to broadening the participation of Historically Black Colleges and Universities, Hispanic Serving Institutions, and Tribal Colleges and Universities in its educational and research programs. The DOC/NOAA vision, mission, and goals are to achieve full participation by Minority Serving Institutions in order to advance the development of human potential, to strengthen the nation's capacity to provide high-quality education, and to increase opportunities for MSIs to participate in and benefit from Federal Financial Assistance programs. DOC/NOAA encourages all applicants to include meaningful participation of MSIs.

Catalog of Federal Domestic Assistance

The NOAA Coastal Services Center Program is listed in the Catalog of Federal Domestic Assistance under Number 11.473.

General Background

Guiding the conservation and management of coastal resources is a primary function of NOAA. NOAA accomplishes this goal through a variety of mechanisms, including collaboration with the coastal resource management programs of the nation’s states and territories. The mission of the NOAA Coastal Services Center (Center) is to foster and sustain the environmental and economic well-being of the coast by linking people, information, and technology. The goal of the Center is to build capabilities throughout the nation to address pressing issues of coastal health and change by promoting coastal resource conservation and efficient and sustainable commercial and residential development. Landscape Characterization And Restoration - Information Resource For A West Coast United States Watershed

Project Description

NOAA’s Coastal Services Center seeks proposals from tribal, regional, state, or local government agencies; academic institutions; or nonprofit organizations for a 2-year cooperative agreement under which a cooperator and the Center will jointly develop a digital information resource for an estuarine watershed, group of watersheds, or management area within the states of California, Oregon, Washington, or Alaska. Cooperators can choose any estuarine watershed or coastal management area within these states. The information resource must focus on one or more resource management needs of the chosen watershed or management area and emphasize examinations of ecosystem function through the integration of physical, ecological, and socioeconomic analyses. The cooperator will choose the management needs that will be focused on, for example a regional habitat restoration plan, non-point source pollution management plan, long-term dredged material management plan, species recovery plan, or detailed environmental description. The information resource must clearly help coastal managers make resource management, regulatory, or land-use planning decisions. Total anticipated funding is $270,000 over two years and is subject to the availability of FY 2001 and FY 2002 appropriations. Only one award is anticipated from this announcement.

Background

This announcement is a call for proposals for work under the Center's Landscape Characterization and Restoration (LCR) Program. The goal of the program is to help Federal, state, and local coastal managers include ecosystem processes in their resource management, regulatory, and land-use planning decisions. The program and program partners will work towards this goal by examining interrelationships among ecological, land use, human demographic, and socioeconomic trends in coastal watersheds and by developing tools needed to integrate those relationships into management practices.

The program’s principal products are environmental characterizations of watersheds that integrate the ecological and socioeconomic information needed to address management issues identified by cooperators. Final products are in a digital format and distributed via CD-ROM and the Internet and include a spatial database, a customized Geographic Information System interface, and a narrative that provides a detailed overview of the focal management issues, how the accompanying information was used to examine potential solutions, and how the overall product can be used in future examinations. The program and its cooperators are currently working on, or have completed, characterizations of Otter Island (South Carolina), the ACE Basin (South Carolina), Kachemak Bay (Alaska), and Rookery Bay/Belle Meade (Florida), and coastal Rhode Island. Overviews of the program and these projects are available through the Internet at http://www.csc.noaa.gov/lcr/ .

Roles and Responsibilities

By working in a cooperative partnership, the unique skills, capabilities, and experiences of the Center and the cooperator will be combined and offer an opportunity for each organization to further its goals. In their proposals, potential cooperators shall explicitly propose the respective roles and responsibilities of the Center and the cooperator. General areas of responsibilities that the Center has had in past projects include: development of spatial models, analyses, and data to address the identified management issues; design of GIS and HTML architectures; and compilation of final products onto a CD-ROM and Internet site. Any questions about appropriate roles for the Center can be directed to Pace.Wilber@noaa.gov.

General areas of responsibility that cooperators have included the following: identifying the management issues that guide development of the information resource; identifying the information needed to address the issues; developing partnerships with other members of the coastal management community; developing and collecting the information (text, tables, graphics, charts, and maps) and tools (organizational structure and models) needed to address the management issues; developing metadata; and determining how the products should be organized to maximize usefulness within the coastal management community.

Project Proposals

The Center must receive one original and two copies of the proposals by 5 pm (Eastern time) on January 12, 2001. Proposals postmarked January 12, 2001, but not received until after January 12, 2001, will not be accepted. In addition to providing the following information, the cooperator must submit a complete NOAA grants package (with signed originals). No e-mail or fax copies will be accepted. All project proposals must total no more than 10 pages (double spaced, 12-point font, and exclusive of appendices). Appendices should be limited to materials that directly support the main body of the proposal; e.g., support letters, resumes, lists of data sources, maps. All appendix material must be unbound.

All proposals must include the sections listed here:

Goal, Objective(s), and Geographic Area. Identify the specific geographic area that will be examined. Identify the specific management objective(s) of the project, including description of current management goals that are not being achieved, how products from this cooperative agreement will significantly address that deficiency, and the benefits that will result to the cooperators, partners, public, and coastal management community.

Background/Introduction. Provide sufficient background information for reviewers to independently assess the local significance and regional importance of the management objectives that will be addressed by the project. Summarize the status of any existing efforts by the cooperator and partners to address these objectives.

Audience. Identify potential users of the product, how those users will incorporate the product in their management of coastal resources, and identify any training that will be needed for users to make full use of the information resource.

Project Description/Methodology. Provide a general work plan that divides the project into discrete steps, identifies critical decision points, and discusses any obstacles to completing the project that may require special planning, and explicitly outlines the respective roles of the cooperator, partners, and Center. One of the initial tasks of the cooperative agreement will be for the Center and the cooperator to prepare a detailed task plan that explains how the resources of all parties will be leveraged to produce the products. The work plan requested for this part of the proposal should demonstrate that the cooperator and partners have sufficient local knowledge of the management problems to lead a innovative effort directed towards developing appropriate solutions.

Project Partners and Support. Identify project partners and describe their respective roles. Include a letter from partners acknowledging their participation in the project. Describe the resources the cooperators and partners have for conducting the project, including personnel qualifications (education, experience, and time available to work on the project), facilities, equipment, and, to the extent practicable, the information and tools already available. Describe how widely the project is supported within the coastal management community and offer evidence of that support.

Milestone Schedule. List target milestones, time lines, and describe how each milestone addresses project objectives.

Project Budget. Provide a detailed budget description that follows the categories and formats in the NOAA grants package and a brief narrative justification of the budget.

Evaluation Criteria (with Weights) and Selection Process

Review panels will be established using two NOAA and at least two non-NOAA reviewers to assist in the evaluation of the proposals. All proposals received will be ranked according to score and the selecting official (Center Director) will use those scores to aid in making the final decision. The selecting official may also consider program policy factors in the final decision to ensure that Center projects are balanced geographically and institutionally. Evaluation criteria are:

Significance (20 points). How well the proposal demonstrates the local significance and regional importance of the issues(s) or management objective(s) that will guide development of the information resource. At a minimum, the proposal must identify management goals that currently are not being achieved, describe how products from this cooperative agreement will significantly address that deficiency, and state the benefits that will result to the public and coastal management community.

Technical Approach (25 points). How well the proposal divides the project into discrete tasks that make effective use of the technical capabilities of the cooperator, partner(s), and Center. This factor also includes the technical merit of the process that the cooperator has outlined for developing the information resource.

Innovation (25 points). How well the proposed work will integrate technology; socioeconomic, physical, and ecological information; and public participation to accomplish project goals and objectives.

Outcomes (10 points). How well the applicant demonstrates that the project outcomes will significantly address the management issue(s) targeted by the project and that the collective resources of the applicant and partners will ensure projected outcomes are met.

Partnerships (10 points). How well the proposal demonstrates that the project is broadly supported by the coastal management community, that a broad group of coastal managers and constituent will benefit from contributing to design and assembly of product(s); that a broad group of coastal managers will use the product(s).

Cost Efficiency (10 points). How well the applicant demonstrates that the budget is commensurate with project needs and that the partnerships employed will improve the overall cost effectiveness of the project and value of the products.

Selection Schedule

Proposals will be reviewed once during the year. The following schedule lists the dates for the project selection and award process for grants and/or cooperative agreements:

Proposal Deadline (with completed grant package) - January 12, 2001.

Earliest Approximate Grant start date - August 1, 2001. Note: All deadlines are for receipt by close of business (5 p.m. Eastern time) on the dates identified. Receipt of proposal and grant package (with original signatures) will be time stamped. E-mail or fax copies will not be accepted. One original and two copies of the proposal and grant paperwork are required.

Funding Availability

Specific funding available for awards will be finalized after NOAA funds for FY 2001 are appropriated. Total funding available for this cooperative agreement with the LCR program is anticipated to be $270,000 over 2 years. One award is anticipated from this announcement. Publication of this document does not obligate NOAA toward any specific grant or cooperative agreement or to obligate all or any parts of the available funds.

Cost Sharing

There is no requirement for cost sharing in response to these guidelines, however, proposals that include cost sharing will likely score highly under evaluation criteria that examines cost efficiency.

Eligibility Criteria

Eligible applicants are institutions of higher educations, hospitals, other non-profits, commercial organizations, foreign governments, organizations under the jurisdiction of foreign governments, international organizations, and state, local and Indian tribal governments. Federal agencies or institutions are not eligible to receive Federal assistance under this announcement, but may be project partners. Note: Federal agencies or institutions who are project partners must demonstrate that they have legal authority to receive funds from another Federal agency in excess of their appropriation. Because this announcement is not proposing to procure goods or services from applicants, the Economy Act (31 U.S.C. 1535) is not an appropriate legal basis.

Authority

Statutory authority for these programs is provided under 16 U.S.C. 1456c (Technical Assistance); 15 U.S.C. 1540 (Cooperative Agreements); and 33 U.S.C. 1442 (research program respecting possible long-range effects of pollution, overfishing, and man-induced changes of ocean ecosystems).

Integration And Development - Bathymetric Data Collection Project Description

The NOAA Coastal Services Center seeks proposals from state, local or regional resource management agencies, port authorities, and academic institutions for projects that conduct new acquisition and supporting documentation of bathymetric data. Private companies and agencies in partnership with the previously mentioned collaborators are also invited to submit proposals. The intent of this program is to support high quality hydrographic digital data collection efforts for public resource management needs and can be used to supplement current NOAA NOS nautical chart data collection programs. It is expected that this funding will supplement agencies who are already considering hydrographic surveys for beach renourishment projects, sand and sediment transport studies, fisheries management, benthic habitat evaluations, dredging, dredge disposal siting projects, and other related projects.

A major objective of this program is to rescue, document, and make available bathymetric data for marine applications. The geographic extent of desired data is from the area (on-shore) of tidal influence out to the Exclusive Economic Zone. Maximum anticipated funding for FY 2001 is $200,000 and it is intended that this funding will be distributed amongst multiple projects. The award level is contingent on methodology, the level of detail, and the geographic scope of the project. See evaluation criteria for cost sharing requirements.

Background

Under the NOAA, NOS strategic efforts to support safe navigation, hydrographic surveys are conducted to produce nautical charts. For safety reasons, these surveys are conducted using strict hydrographic survey procedures (refer to the following Uniform Resource Locator (ULR) for more information about these procedures): http://chartmaker.ncd.noaa.gov/ocs/text/prodserv.htm .

In addition to its intended charting purpose, hydrographic survey data is very useful to the coastal and ocean resource management community in the production of bathymetry. Moreover, hydrographic survey requirements for resource management need not be as rigorous as navigation surveys that protect life and limb. Supporting this community is an additional mandate of NOS under its coastal stewardship strategic goal. Due to financial constraints, NOS has only been able to commit to new surveys in major commercial shipping areas. Near shore and estuarine areas not generally deemed a navigational hazard are currently not routinely surveyed. Many of these areas are of interest to the coastal resource managers for projects related to dredging, dredge disposal, habitat studies, sediment transport, and beach renourishment projects.

NOAA is interested in supplementing its current hydrographic survey data collection with data from non-NOAA sources to meet strategic goals. In addition, NOAA is interested in helping non-NOAA sources acquire data using standards and documentation that will increase the usability and longevity of the data. NOAA is committed to helping third-party data creators document and make these data available to the marine community using standards and protocols outlined by the Federal Geographic Data Committee (FGDC). Specifically, NOAA is interested in helping foster the development of high quality accurate digital bathymetric data for use in desktop GIS for coastal and ocean resource management and updating nautical charts.

Project Proposals

The Center must receive one original and two copies of the proposals by 5 p.m. (Eastern time) on January 12, 2001. Proposals postmarked January 12, 2001, but not received until after January 12, 2001, will not be accepted. In addition to providing the following information, the cooperator must submit a complete NOAA grants package (with signed originals). No e-mail or fax copies will be accepted. All project proposals must total no more than 10 pages (double spaced, 12-point font, and exclusive of appendices). Appendices should be limited to materials that directly support the main body of the proposal; e.g., support letters, resumes, lists of data sources, maps. All appendix material must be unbound. All projects proposals must include the sections listed here:

Project Description/Methodology. This section should address the general work plan and deliverables. Methodology should address specific methods of data collection and documentation that as a minimum include the methods of sounding, methods of correcting for motion of the survey platform, methods of horizontal positioning, and methods of corrections for tide. In addition, proposal should include limits of survey area and density of line spacing and sounding interval. Proposal should include a section of chart that outlines the survey area and orientation to the depth contour. Database format must be adequately described and include a supplemental descriptor file or metadata that contains the information necessary for completing an FGDC-compliant metadata record for the survey.

Project Partners and Subcontractors. Proposal should identify project partners and describe their respective roles. Include a letter from partners and subcontractors acknowledging their participation and area of responsibility. All projects must have a state, local, or regional coastal resource management agency as a primary participant.

Milestone Schedule. Proposal should list target milestones and their respective time lines.

Project Budget. Proposal should provide a detailed budget breakdown that follows the categories and formats in the NOAA grants package and a brief narrative that justifies each item.

Evaluation Criteria (With Weights) and Selection Process

Review panels will be established using two NOAA and two non-NOAA experts in the field of hydrographic survey methodology, tidal correction, and spatial data acquisition. All proposals received will be ranked according to score and the selecting official (Center Director) will use those scores to aid in making the final decision. The selecting official may also consider program policy factors in the final decision to ensure Center projects are balanced geographically and institutionally. Evaluation criteria are:

Technical Merit (65 points). The proposal will be judged on the methodology used to collect the data. This includes the corrections for vessel motion (heave, roll and pitch), equipment used, and method of sounding, and corrections for tide. It is expected that differential Global Positioning System (GPS) will be used as the method of horizontal positioning, but this should be specifically addressed. Though not required, any corrections for sound velocity (in shallow water) or settlement and squat could positively influence this weighting.

Data Density, Geographic Scope, and Orientation (10 points). This weighting will be based on the level of detail of the survey. Project description should include a map or graphic that outlines the intended spatial extent of the survey, the density of the line spacing or number of soundings, and the orientation of the survey platform to the depth contour.

Data Delivery Mechanism and Documentation (10 points). Project will be judged on the database schema and documentation of the delivered data. Points will be awarded or deleted for the inclusion or absence of a coherent metadata strategy.

Theme (10 points). The purpose or theme of the survey will be part of the weighting criteria. As stated earlier, one of the objectives of the Center is to foster improved bathymetric data access for the coastal and ocean resource community. Projects deemed to fall within this scope will be given additional weight. Additional weight will be given for the project's demonstrated applicability to coastal or ocean resource management.

Cost-Sharing (5 points). There is no requirement for cost sharing; however, additional points will be awarded in proportion to the amount of cost sharing proposed. Applicant will have to cost share at least 10 percent to receive 1 point, 20 percent to receive 2 points, 30 percent to receive 3 points, 40 percent to receive 4 points, and 50 percent to receive 5 points.

Selection Schedule

Proposals will be reviewed once during the year. The following schedule lists the dates for the project selection and award process for grants and/or cooperative agreements:

Proposal Deadline (with completed grant package) - January 12, 2001.

Earliest Approximate Grant Start Date - August 1, 2001.

Note: All deadlines are for receipt by close of business (5 p.m. Eastern time) on the dates identified. Receipt of proposal and grant package (with original signatures) will be time stamped. E-mail or fax copies will not be accepted. One original and two copies of the proposal and grant paperwork are required.

Funding Available

Specific funding available for awards will be finalized after NOAA funds for FY 2001 are appropriated. Total funding available for this grant or cooperative agreement with the Integration and Development program is anticipated to be no more than $200,000 and funding will be distributed over multiple projects. Publication of this notice does not obligate NOAA toward any specific grant or cooperative agreement or to obligate all or any parts of the available funds.

Cost Sharing

There is no requirement for cost sharing in response to these guidelines; however, proposals that include cost sharing will likely score highly under the cost sharing criteria noted here.

Eligibility Criteria

Eligible applicants are institutions of higher educations, hospitals, other non-profits, foreign governments, organizations under the jurisdiction of foreign governments, international organizations, and state, local and Indian tribal governments. Commercial organizations that have a formal collaborative partnership with a state or local resource coastal management office are encouraged to apply. Federal agencies or institutions are not eligible to receive Federal assistance under this notice, but may be project partners.

Note: Federal agencies or institutions who are project partners must demonstrate that they have legal authority to receive funds from another federal agency in excess of their appropriation. Because this announcement is not proposing to procure goods or services from applicants, the Economy Act (31 U.S.C. 1535) is not an appropriate legal basis.

Authority

Statutory authority for these programs is 33 U.S.C. 883a (surveys and other activities) and 33 U.S.C. 883c (geomagnetic data; collection, correlation, and dissemination).

Special Projects

The NOAA Coastal Services Center is seeking proposals for special technical, management, or planning projects that relate to growth management in coastal areas or human use of coastal resources. Project proposals are due January 12, 2001, (with earliest start date of August 1, 2001). See Selection Schedule following. Anticipated funding in FY 2001 will be between $50,000 and $150,000. Two to six projects will be funded in the $20,000 to $25,000 range for 1 year with the potential for option years (depending on the availability of funds through the federal appropriation process). Projects above $25,000 will not be considered.

Background

The Center conducts a variety of projects that directly apply to the state and local coastal management community. The goal of Special Projects is to provide assistance to the local coastal management community for technical or management issues on specific topics relating directly to growth management in coastal areas or human use of coastal resources.

In FY 2001, the Center expects to award grants and cooperative agreements (for those projects with substantial Center involvement) to organizations across the United States with proven abilities to implement practical solutions at a state and local level. Proposed study topics must relate to growth management in coastal areas or to human use of coastal resources. All project proposals received that meet the topic criteria will be reviewed for technical merit and management relevance.

Project Proposals

The Center must receive one original and two copies of the proposals by 5 p.m. (Eastern time) on January 12, 2001. Proposals postmarked January 12, 2001, but not received until after January 12, 2001, will not be accepted. In addition to providing the following information, the cooperator must submit a complete NOAA grants package (with signed originals). No e-mail or fax copies will be accepted. All project proposals must total no more than 10 pages (double spaced, 12-point font, and exclusive of appendices). Appendices should be limited to materials that directly support the main body of the proposal; e.g., support letters, resumes, lists of data sources, maps. All appendix material must be unbound. All projects proposals must include the sections listed here:

Goals and Objectives. Identify broad project goals and quantifiable objectives.

Background/Introduction. State the problem and summarize existing efforts at all levels.

Audience. Describe specifics of how the project will contribute to improving or resolving an issue with the primary target audience. The target audience must be explicitly stated.

Project Description/Methodology. Describe the specifics of the projects (3 page maximum).

Project Partners. Identify project partners and their respective roles.

Milestones and Outcomes. List target milestones, Time lines, and desired outcomes in terms of products and services.

Project Budget. Proposal should provide a detailed budget breakdown that follows the categories and formats in the NOAA grant package and a brief narrative that justifies each item.

Evaluation Criteria (With Weights) and Selection Process

Review panels will be established using two NOAA and at least two non-NOAA reviewers to assist in the evaluation of the proposals. All proposals received will be ranked according to score and the selecting official (Center Director) will use those scores to aid in making the final decision. The selecting official also may consider program policy factors in the final decision to ensure Center projects are balanced geographically and institutionally. Evaluation criteria are:

Management Relevance (30 points)

Does the proposed project (directly or indirectly) address a critical national, regional, state, or local management need relating directly to growth management of coastal areas or human use of coastal resources?

Does the project involve partnerships with the state coastal management agency, National Estuarine Research Reserve, and/or National Marine Sanctuary?

Does the proposed project have a clearly defined management audience and do the products have clearly defined users?

Technical Merit (35 points)

Is the approach technically sound?

Does the proposed project build on existing knowledge?

Are the project goals and objectives clear and concise?

Does the proposed project provide for long-term maintenance or sustainability of products and services?

Is the approach innovative?

Applicability and Effectiveness of Products and their Delivery (25 points)

Will the proposed project produce useful (and easily used) products, services, or an understanding for the target audience and users?

Is project time line and project design likely to be flexible and responsive to public and user input?

Is an evaluation process built into the project? Is it appropriate?

Efficiency and Overall Qualifications (10 points)

Is the budget commensurate with the project needs?

Are the proposers capable of conducting a project of the scope and scale proposed? (i.e., Are there adequate professional, facility, and administrative capabilities?)

Selection Schedule

Proposals will be reviewed once during the year. The following schedule lists the dates for the project selection and award process for grants and/or cooperative agreements:

Proposal Deadline (with completed grant package) January 12, 2001.

Earliest Appropriate Grant Start Date - August 1, 2001

Note: All deadlines are for receipt by close of business (5 p.m. Eastern time) on the dates identified. Receipt of proposal and grant package (with original signatures) will be time stamped. E-mail or fax copies will not be accepted. One original and two copies of the proposal and grant paperwork are required.

Funding Availability

Specific funding available for the award will be finalized after NOAA funds for FY 2001 are appropriated. Publication of this document does not obligate NOAA toward any specific grant or cooperative agreement or to obligate all or any parts of the available funds.

Cost Sharing

There is no requirement for cost sharing in response to this program announcement and no additional weight will be given to proposals with cost sharing.

Eligibility Criteria

Eligible applicants are institutions of higher educations, hospitals, other non-profits, commercial organizations, foreign governments, organizations under the jurisdiction of foreign governments, international organizations, and state, local and Indian tribal governments. Federal agencies or institutions are not eligible to receive Federal assistance under this announcement, but may be project partners.

Note: Federal agencies or institutions who are project partners must demonstrate that they have legal authority to receive funds from another Federal agency in excess of their appropriation. Because this announcement is not proposing to procure goods or services from applicants, the Economy Act (31 U.S.C. 1535) is not an appropriate legal basis.

Authority

Statutory Authority for these programs is provided under 16 U.S.C. 1456C (Technical Assistance).

Special Projects for the Pacific Islands

Project Description

NOAA’s Coastal Services Center is seeking proposals for special technical, management, or planning projects that directly apply to the goals of the Pacific Island coastal management community. Projects topics should relate to one or more of the four themes of the Coastal Services Center: Habitat, Hazards, Coastal Communities, or National Spatial Data Infrastructure (NSDI). Project proposals are due January 12, 2001, (with earliest start date August 1, 2001). See “Selection Schedule” following. Anticipated funding in FY 2001 will be between $50,000 and $500,000. Projects will be funded in the $25,000 to $75,000 range for 1 year with the potential for options years (depending on the availability of funds through the Federal appropriation process).

Background

The Coastal Services Center conducts a variety of projects that directly apply to the state and local coastal management community. The goal of this program is to provide assistance to the Pacific Island coastal management community for technical or management issues on a very broad range of topics related to coastal resources and their wise management.

In FY 2001, the Center expects to award grants and cooperative agreements (for those projects with substantial Center involvement) to organizations with proven abilities to implement practical solutions in the Pacific Islands at a state and local level. Proposed study topics must relate to one or more of the Center’s themes: Habitat, Hazards, Coastal Communities, or NSDI.

Project Proposal

The Center must receive one original and two copies of the proposals by 5 p.m. (Eastern time) on January 12, 2001. Proposals postmarked January 12, 2001, but not received until after January 12, 2001, will not be accepted. In addition to providing the following information, the cooperator must submit a complete NOAA grants package (with signed originals). No e-mail or fax copies will be accepted. All project proposals must total no more than 10 pages (double spaced, 12-point font, and exclusive of appendices). Appendices should be limited to materials that directly support the main body of the proposal; e.g., support letters, resumes, lists of data sources, and maps. All appendix materials must be unbound. All projects proposals must include the sections listed here:

Goals and Objectives. Identify broad project goals and quantifiable objectives.

Background/Introduction. State the problem and summarize existing efforts at all levels.

Audience. Describe specifics of how the project will contribute to improving or resolving an issue with the primary target audience. The target audience must be explicitly stated.

Project Description/Methodology. Describe the specifics of the projects (3 page maximum).

Project Partners. Identify project partners and their respective roles.

Milestones and Outcomes. List target milestones, time lines, and desired outcomes in terms of products and services.

Project Budget. Proposal should provide a detailed budget breakd own that follows the categories and formats in the NOAA grant package and a brief narrative that justifies each item.

Evaluation Criteria (With Weights) and Selection Process

Review panels will be established using two NOAA and at least two non-NOAA reviewers to assist in the evaluation of the proposals. All proposals received will be ranked according to score and the selecting official (Center Director will use those scores to aid in making the final decision. The selection official also may consider program policy factors in the final decision to ensure Center projects are balanced geographically and institutionally.

Evaluation criteria are: Management Relevance (30 points)

Does the proposed project (directly or indirectly) address a critical national, regional, state, or local management need relating directly to growth management of coastal areas or human use of coastal resources?

Does the project involve partnerships with the state coastal management agency, National Estuarine Research Reserve, and/or National Marine Sanctuary?

Does the proposed project have a clearly defined management audience and do the products have clearly defined users?

Technical Merit (35 points)

Is the approach technically sound?

Does the proposed project build on existing knowledge?

Are the project goals and objectives clear and concise?

Does the proposed project provide for long-term maintenance or sustainability of products and services?

Is the approach innovative?

Applicability and Effectiveness of Products and their Delivery (25 points)

Will the proposed project produce useful (and easily used) products, services, or an understanding for the target audience and users?

Is project time line and project design likely to be flexible and responsive to public and user input?

Is an evaluation process built into the project? Is it appropriate?

Efficiency and Overall Qualifications (10 points)

Is the budget commensurate with the project needs?

Are the proposers capable of conducting a project of the scope and scale proposed (i.e., Are there adequate professional, facility, and administrative capabilities?)

Selection Schedule

Proposals will be reviewed once during the year. The following schedule lists the dates for the project selection and award process for grants and/or cooperative agreements:

Proposal Deadline (with completed grant package) - January 12, 2001

Earliest Approximate Grant Start Date - August 1, 2001

Note: All deadlines are for receipt by close of business (5 p.m. Eastern time) on the dates identified. Receipt of proposal and grant package (with original signatures) will be time stamped. E-mail or fax copies will not be accepted. One original and two copies of the proposal and grant paperwork are required.

Funding Available

Specific funding available for awards will be finalized after NOAA funds for FY 2001 are appropriated. Publication of this notice does not obligate NOAA toward any specific grant or cooperative agreement or to obligate all or any parts of the available funds.

Cost Sharing

There are no requirements for cost sharing in response to this program announcement and no additional weight will be given to proposals with cost sharing.

Eligibility Criteria

Eligible applicants are institutions of higher educations, hospitals, other non-profits, commercial organizations, foreign governments, organizations under the jurisdiction of foreign governments, international organizations, and state, local and Indian tribal governments. Federal agencies or institutions are not eligible to receive Federal assistance under this notice, but may be project partners. Note: Federal agencies or institutions who are project partners must demonstrate that they have legal authority to receive funds from another Federal agency in excess of their appropriation. Because this announcement is not proposing to procure goods or services from applicants, the Economy Act (31 U.S.C 1535) is not an appropriate legal basis.

Authority

Statutory Authority for these programs is provided under 16 U.S.C. 1456C (Technical Assistance).

Technical Assistantship For The Pacific Islands

Project Description

The NOAA Coastal Services Center is seeking proposals for the development and administration of 2-year grants to support post-graduate students working for the Pacific Island coastal zone management programs. This includes those programs in Hawaii, Guam, American Samoa, and the Commonwealth of the Northern Marianas. Project proposals are due January 12, 2001 (with earliest start date August 1, 2001). See Selection Schedule following. Total anticipated funding in FY 2001 will be between $75,000 and $300,000. Each assistantship will be funded in the $75,000 to $100,000 range to cover both years of one student. It is anticipated that one to four students will be placed in FY 2001. There must be a balance in location of student placement so that over any given several year period, all four Pacific coastal zone management programs will receive a student.

All project proposals must define how students will be selected and placed, must provide a mechanism for determining where students are placed, and must include a mechanism to ensure that the skills and expertise of the selected students match the needs and requirements of the selected Pacific Island coastal zone management program.

This would be a cooperative agreement between the Center and the cooperator for 2 years with the option to extend for 4 years (depending on the availability of funds through the Federal appropriations process).

Background

The goal of this program is to provide assistance to the Pacific Island coastal zone management agencies on technical and management issues that directly relate to the agencies’ needs and requirements. This program is administratively and programmatically distinct from the NOAA Coastal Management Fellowship program. In FY 2001, the Center expects to award one to two cooperative agreements to design, implement, and administer this program.

Roles and Responsibilities

These projects are intended to be cooperative in nature. The following items identify the minimum project participation expected by the Center and the project applicant. Additional roles and responsibilities should be identified by the applicant.

Coastal Services Center shall have primary responsibility for ensuring that the needs and requirements of the selected Pacific Island coastal zone management agency are being met through this assistantship program. To this end, the Center will:

Provide information to the applicant on the needs of the Pacific Island coastal zone management agency prior to the recruiting of the assistants, and

Serve as a reviewer on all student applications to help ensure that the selected students’ expertise match with the needs of the Pacific Island coastal zone management programs. The applicant shall have primary responsibility for the following activities associated with this program:

Design process for recruitment and selection.

Select Pacific Island coastal zone management programs(s) for student placement.

Announce and select assistants.

Support and administer assistants - This shall include all activities related to the financial support and administration of the assistants. These activities include arranging for and supporting medical insurance, worker’s compensation insurance, state and federal income tax withholdings, and FICA withholdings; coordinating and providing reimbursement for moving expenses, salary disbursement to the assistants; and coordinating and supporting and travel for the assistants. The Coastal Services Center and the Applicant shall share joint responsibility for the following activities associated with this program:

Publicize the program. This shall include general announcement and publicity measures to provide general information about the program, specific announcements of the selection processes, and specific announcements of the results of the selection processes. Newsletters, facts sheets, Web sites, and conference poster sessions should all be considered potential publicity mechanisms.

Solicit other partners. To ensure the continued success and further development of the program, both organizations should consider recruiting other partners to provide financial support and opportunities for future assistants.

Project Proposals

The Center must receive one original and two copies of the proposals by 5 p.m. (Eastern time) on January 12, 2001. Proposals postmarked January 12, 2001, but not received until after January 12, 2001, will not be accepted. In addition to providing the following information, the cooperator must submit a complete NOAA grants package (with signed originals). No e-mail or fax copies will be accepted. All project proposals must total no more than 10 pages (double- spaced, 12-point font, and exclusive of appendices). Appendices should be limited to materials that directly support the main body of the proposal; e.g., support letters, resumes, lists of data sources, maps. All appendix material must be unbound. All projects proposals must include the sections listed here:

Goals and Objectives. Identify broad project goals and quantifiable objectives.

Background/Introduction. State the problem and summarize existing efforts at all levels.

Audience. Describe specifics of how the project will contribute to improving or resolving an issue with the primary target audience. The target audience must be explicitly stated.

Project Description/Methodology. Describe the specifics of the process for development and administration (4 pages maximum).

Project Partners. Identify project partners and their respective roles.

Milestones and Outcomes. List target milestones, time lines, and desired outcomes in terms of products and services.

Project Budget. Proposal should provide a detailed budget breakdown that follows the categories and formats in the NOAA grant package and a brief narrative that justifies each item. Salary, per diem, travel, and benefits of selected students must be included in the budget.

Evaluation Criteria (With Weights) and Selection Process

Review panels will be established using two NOAA and at least two non-NOAA reviewers to assist in the evaluation of the proposals. All proposals received will be ranked according to score and the selecting official (Center Director) will use those scores to aid in making the final decision. The selecting official also may consider program policy factors in the final decision to ensure Center projects are balanced geographically and institutionally. Evaluation criteria are:

Technical Relevance (70 points)

Does the approach identify an effective mechanism for defining how students will be selected and placed?

Does the approach identify an effective mechanism for determining where students are placed?

Does the approach identify an effective mechanism for ensuring that the skills and expertise of the selected students match the needs and requirements of the selected Pacific Island coastal zone management program?

Is an evaluation process built into the project? Is it appropriate?

Does the project involve partnerships with the state coastal management agency, National Estuarine Research Reserve, and/or National Marine Sanctuary?

Efficiency and Overall (30 points)

Is the budget commensurate with the project needs? on existing knowledge?

Are the proposers capable of conducting a project of the scope and scale proposed? (i.e., Are there adequate professional, facility, and administrative capabilities?)

Selection Schedule

Special projects will be reviewed once during the year. The following schedule lists the dates for the project selection and award process for grants and/or cooperative agreements:

Proposal Deadline (with complete grant package) January 12, 2001. Earliest Approximate Grant start date August 1, 2001.

Note: All deadlines are for receipt by close of business (5 p.m. Eastern time) on the dates identified. Receipt of proposal and grant package (with original signatures) will be time stamped. E-mail or fax copies will not be accepted. One original and two copies of the proposal and grant paperwork are required.

Funding Available

Specific funding available for awards will be finalized after NOAA funds for FY 2001 are appropriated. Publication of this announcement does not obligate NOAA toward any specific grant or cooperative agreement or to obligate all or any parts of the available funds.

Cost Sharing

There is no requirement for cost sharing in response to this program announcement and no additional weight will be given to proposals with cost sharing.

Eligibility Criteria

Eligible applicants are institutions of higher educations, hospitals, other non-profits, commercial organizations, foreign governments, organizations under the jurisdiction of foreign governments, international organizations, and state, local and Indian tribal governments. Federal agencies or institutions are not eligible to receive federal assistance under this notice, but may be project partners. Note: Federal agencies or institutions who are project partners must demonstrate that they have legal authority to receive funds from another Federal agency in excess of their appropriation. Because this announcement is not proposing to procure goods or services from applicants, the Economy Act (31 U.S.C. 1535) is not an appropriate legal basis.

Authority

Statutory Authority for these programs is provided under 16 U.S.C. 1456c (Technical Assistance).

General Information For All Programs

Indirect Costs

The total dollar amount of the indirect costs proposed in an application under any of these programs must not exceed the current indirect cost rate negotiated and approved by the applicant’s cognizant federal agency, prior to the proposed effective date of the award or 100 percent of the total proposed direct costs dollar amount in the application, whichever is less. If a rate has not been established, one will be negotiated by the Department of Commerce (DOC) Office of Inspector General.

Federal Policies and Procedures

Recipients and sub-recipients are subject to all Federal laws and Federal and DOC policies, regulations, and procedures applicable to Federal assistance awards.

Name Check Review

All non-profit and for-profit applicants are subject to a name check review process. Name checks are intended to reveal if any key individuals associated with the recipient have been convicted of, or are presently facing, criminal charges such as fraud, theft, perjury, or other matters that significantly reflect on the recipient's management, honesty, or financial integrity.

Past Performance

Unsatisfactory performance under prior federal awards may result in an application not being considered for funding.

Pre-Award Activities

If applicants incur any costs prior to an award being made, they do so solely at their own risk of not being reimbursed by the government. Notwithstanding any verbal or written assurance that may have been received, there is no obligation on the part of DOC to cover pre-award costs should an award not be made or funded at a level less than requested.

No Obligation for Future Funding

If the application is selected for funding, DOC has no obligation to provide any additional future funding in connection with that award. Renewal of an award to increase funding or extend the period of performance is at the total discretion of DOC.

Delinquent Federal Debts

No award of Federal funds shall be made to an applicant who has an outstanding delinquent Federal debt until either:

(i) The delinquent account is paid in full,

(ii) A negotiated repayment schedule is established and at least one payment is received, or

(iii) Other arrangements satisfactory to DOC are made.

Primary Applicant Certifications

All organizations or individuals preparing grant applications must submit a completed Form CD-511 “Certifications Regarding Debarment, Suspension, and Other Responsibility Matters; Drug-Free Workplace Requirements and Lobbying,” and explanations are hereby provided:

Non-Procurement Debarment and Suspension

Prospective participants (as defined at 15 CFR 26.105) are subject to 15 CFR part 26, “Nonprocurement Debarment and Suspension” and the related section of the certification form prescribed above applies.

Drug-Free Workplace

Grantees (as defined at 15 CFR 26.605) are subject to 15 CFR part 26, subpart F, “Government-wide Requirements for Drug-Free Workplace (Grants)” and the related section of the certification form prescribed here applies.

Anti-Lobbying

Persons (as defined at 15 CFR 28.105) are subject to the lobbying provisions of 31 U.S.C. 1352, “Limitation on use of appropriated funds to influence certain Federal contracting and financial transactions,” and the lobbying section of the certification form prescribed above applies to application/bids for grants, cooperative agreements, and contracts for more than $100,000, and loans and loan guarantees for more than $150,000.

Anti-Lobbying Disclosures

Any applicant that has paid or will pay for lobbying using any funds must submit an SF-LLL form, “Disclosure of Lobbying Activities,” as required under 15 CFR part 28, Appendix B.

Lower-Tier Certifications

Recipients shall require applicants/bidders for sub-grants, contracts, subcontracts, or other lower-tier-covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to DOC. SF-LLL submitted by any tier recipient or sub-recipient should be submitted to DOC in accordance with the instructions contained in the aware document.

False Statements

A false statement on an application is grounds for denial or termination of funds and grounds for possible punishment by a fine or imprisonment as provided in 18 U.S.C. 1001.

Intergovernmental Review

Applications under this program are subject to Executive Order 12372,“Intergovernmental Review of Federal Programs.”

Buy American-made Equipment or Products

Applicants are hereby notified that they will be encouraged, to the greatest extent practicable, to purchase American-made equipment and products with funding provided under this program in accordance with Congressional intent.

Classification

This action has been determined to be not significant for purposes of Executive Order 12866.

Prior notice and an opportunity for public comment are not required by the Administrative Procedure Act or any other law for this notice concerning grants, cooperative agreements, benefits, and contracts. Therefore, a regulatory flexibility analysis is not required for purposes of the Regulatory Flexibility Act.

Notwithstanding any other provision of law, no person is required to respond to, nor shall a person be subject to, a penalty for failure to comply with a collection of information subject to the requirements of the Paperwork Reduction Act (PRA) unless that collection of information displays a currently valid OMB control number. This notice contains a collection-of-information requirements subject to the PRA. The collection-of-information has been approved by OMB, OMB Control Numbers 0348-0041, 0348-0042, 0348-0043, 0348-0044, 0348-0040, 0348-0046, and 0605-0001.

Dated: October 23, 2000.
Margaret A. Davidson,
Acting Assistant Administrator for Ocean Services and Coastal Zone Management.

[FR Doc. 00-27816 Filed 10-27-00; 8:45 am]

BILLING CODE: 3510-22-S